DEPARTMENT OF COMMERCE

National Oceanic and Atmospheric Administration

[I.D. 071306G]

Magnuson-Stevens Act Provisions; General Provisions for Domestic Fisheries; Application for Exempted Fishing Permits

AGENCY: National Marine Fisheries Service (NMFS), National Oceanic and Atmospheric Administration (NOAA), Commerce.

ACTION: Notice; receipt of exempted fishing permit application.

SUMMARY: The Assistant Regional Administrator for Sustainable Fisheries, Northeast Region, NMFS (Assistant Regional Administrator) has made a preliminary determination that the subject exempted fishing permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP, which would enable researchers to investigate the efficacy of a 4-seam bottom trawl to improve escapement of small cod and haddock, would allow for exemptions from the FMP as follows: Gulf of Maine (GOM) Regulated Mesh Area minimum mesh size and gear restrictions, and two NE multispecies days-at-sea (DAS) out of a total of 12 days of gear testing.

Regulations under the Magnuson-Stevens Fishery Conservation and Management Act require publication of this notification to provide interested parties the opportunity to comment on applications for proposed EFPs.

DATES: Comments must be received on or before August 3, 2006.

ADDRESSES: Written comments should be sent to Patricia A. Kurkul, Regional Administrator, NMFS, Northeast Regional Office, 1 Blackburn Drive, Gloucester, MA 01930. Mark the outside of the envelope “Comments on the GOM 4-Seam Trawl Study.” Comments may also be sent via facsimile (fax) to (978) 281-9135, or submitted via e-mail to the following address: DA6191@noaa.gov.

FOR FURTHER INFORMATION CONTACT: Tobey Curtis, Fishery Management Specialist, (978) 281-9273, fax (978) 281-9135.

SUPPLEMENTARY INFORMATION: A complete application for an EFP was submitted on June 12, 2006, by Dana Morse and Lynn Wardwell of the Maine Sea Grant College Program, University of Maine Cooperative Extension. This project is funded by the Northeast Consortium. The primary goal of the research is to test the efficacy of a 4-seam bottom trawl to improve escapement of small haddock and cod. The intent of the researchers is that the experimental net, if successful, could potentially be an acceptable alternative trawl design to be used in the groundfish fishery.

The project expands on previous work conducted by Maine Sea Grant, and is anticipated to sharpen the net selectivity observed in earlier studies. Specifically, the researchers propose to compare the effectiveness of regulated 6-inch (15.2-cm) diamond mesh side panels to 6-inch (15.2-cm) hexagonal mesh side panels on a 4-seam net configuration. Two trawl designs will be used: (1) A control trawl (4-seam net, 2:1 belly taper, 6-inch (15.2-cm) diamond mesh side panels, 6.5-inch (16.5-cm) diamond mesh codend); and (2) an experimental trawl (4-seam net, 2:1 belly taper, 6-inch (15.2-cm) hexagonal mesh side panels, 6.5-inch (16.5-cm) diamond mesh codend). A gear exemption is necessary for the experimental net because hexagonal mesh is not an allowed regulated mesh type. Additionally, a set of trials to quantify side panel escapement of each net design will be conducted by attaching small mesh (1-⅜-inch (3.5-cm)) “pockets” to the side panels, each with their own codend. A minimum mesh size exemption is necessary because the 1-⅜-inch (3.5-cm) mesh pockets are smaller than the legal minimum mesh size for trawls in the GOM. A submersible video recorder will be attached to the trawl to observe the effectiveness of the side panel pockets at retaining escapees.

Species of principal interest in the study include haddock, cod, pollock, American plaice, witch flounder, winter flounder, and hake species. Once caught, these species would be sorted, and then divided into legal and sub-legal size groups. They would then be sub-sampled, measured, and weighed. All legal catch would be retained, while all other remaining catch would be returned to the sea as quickly as practicable. Based on data from previous experimental tows, the researchers anticipate that a total of 20,385 lb (9,246 kg) of fish would be harvested throughout the course of the study, along with 6,390 lb (2,898 kg) of regulatory discards from both the experimental and control nets. All legal-sized fish within the possession limit would be retained and sold, with the proceeds returned to the project for the purpose of enhancing future research.

All at-sea research is proposed to be conducted from the F/V Bad Penny (Permit # 250485, O.N. 617341) from the period between August 1, 2006, and July 31, 2007. The vessel intends to fish in two main areas of the GOM, known as “The Kettles” and “The Three Dories.” The vessel would fish exclusively outside of all closed areas. A total of 10 days would be used for testing the experimental trawl, with an anticipated 4, 2-hour tows per day (2 control, 2 experimental). An additional 2 days would be used to evaluate side panel escapement, using the small mesh side pockets. During these escapement trials, the main net codend would remain open, and only fish captured through the side panels would be sampled. The researchers are therefore requesting exemption from a total of 2 NE multispecies DAS to conduct the net escapement trials, in which no fish will be landed.

Based on preliminary review of this project, and in accordance with NOAA Administrative Order 216-6, a Categorical Exclusion (CE) from requirements to prepare either an Environmental Impact Statement (EIS) or an Environmental Assessment (EA) under the National Environmental Policy Act (NEPA) appears to be justified. The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: July 13, 2006.
James P. Burgess,
Acting Director, Office of Sustainable Fisheries, National Marine Fisheries Service.

[FR Doc. E6-11406 Filed 7-18-06; 8:45 am]

BILLING CODE 3510-22-S